DEPARTMENT OF HEALTH AND HUMAN SERVICES

Centers for Disease Control and Prevention

[60Day-09-09AE]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Chagas Disease knowledge, attitude, practices (KAP) study of physicians—New—Coordinating Center for Infectious Disease (CCID), National Center for Zoonotic, Vector-borne, and Enteric Diseases (NCZVED), Division of Parasitic Diseases (DPD), Centers for Disease Control and Prevention (CDC).

Background and Brief Description

The Division of Parasitic Diseases is proposing a knowledge, attitudes, and practices (KAP) study to determine the level of physician awareness and understanding of Chagas disease. Chagas disease is a blood-borne parasitic disease, found only in the Americas, and spread through contact with the triatomine bug. Chagas disease can also be contracted through blood transfusion, organ transplantation, and from mother to child congenitally. This disease is not spread through person-to-person contact. Chagas disease can cause serious heart and stomach illness; for some patients, treatment with antiparasitic medications prevents these serious complications and may eliminate the infection. The hypothesis of this research study is that there will be a dramatic Chagas disease knowledge deficit among physicians. In the first 20 months of blood donor screening for Chagas disease, at least 624 positive blood donors were identified. Currently, only about 10% of blood donors with Chagas disease are receiving treatment medication. It is suspected that most physicians are not familiar with this disease and this may negatively impact patient care: (1) When positive blood donors see their healthcare provider, (2) when organs and tissues are transplanted unknowingly from infected donors, and (3) when infected mothers give birth to babies without screening for Chagas disease. This KAP study will survey physicians in areas where there may be more patients with Chagas disease. The survey will be sent to all physician members of several partner organizations. Results will be analyzed in order to develop physician education material. That material will then be sent to all members. Subsequently, a second follow-up survey, very similar to the initial one, will be sent in order to determine levels of knowledge change. The data collected by this study will allow DPD to understand, and consequently develop and appropriately target medical educational material to address, Chagas disease knowledge deficits of physicians.

There is no cost to respondents other than their time.

Estimated Annualized Burden Hours
Respondents | Number of respondents | Number of responses per respondent | Average burden per response (in hours) | Total burden (in hours)
Physicians | 300 | 2 | 3/60 | 30

Dated: November 14, 2008.
Maryam I. Daneshvar,
Acting Reports Clearance Officer, Centers for Disease Control and Prevention.

[FR Doc. E8-27619 Filed 11-19-08; 8:45 am]

BILLING CODE 4163-18-P